DEPARTMENT OF LABOR

Employment and Training Administration

[TA-W-64,976]

General Binding Corporation a Division of ACCO Brands, Inc. Including On-Site Leased Workers From Aerotek, Action Temps and Paramount Staffing, Addison, IL; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on February 4, 2009, applicable to workers of General Building Company, Addison, Illinois. The notice was published in the Federal Register on March 3, 2009 (74 FR 9282).

At the request of a State agency, the Department reviewed the certification for workers of the subject firm. The workers are engaged in the production of thermal laminating film.

New information shows that the finding issued by the Department incorrectly named the subject firm as General Building Corporation. The subject firm's actual name is General Binding Corporation.

Accordingly, the Department is amending this certification to reflect the newly discovered information.

The amended notice applicable to TA-W-64,976 is hereby issued as follows:

All workers of General Binding Corporation, a division of ACCO Brands, Inc., including on-site leased workers from Aeortek, Action Temps and Paramount Staffing, Addison, Illinois, who became totally or partially separated from employment on or after January 22, 2008 through February 4, 2011 are eligible to apply for adjustment assistance under Section 223 of the Trade Act of 1974, and are also eligible to apply for alternative trade adjustment assistance under Section 246 of the Trade Act of 1974.

Signed at Washington, DC, this 24th day of March, 2009.
Richard Church,
Certifying Officer, Division of Trade Adjustment Assistance.

[FR Doc. E9-7804 Filed 4-6-09; 8:45 am]

BILLING CODE 4510-FN-P